DEPARTMENT OF TRANSPORTATION

Federal Aviation Administration

14 CFR Part 39

[Docket No. FAA-2020-1170; Project Identifier MCAI-2020-00720-R]

RIN 2120-AA64

Airworthiness Directives; Bell Textron Canada Limited Helicopters

AGENCY: Federal Aviation Administration (FAA), DOT.

ACTION: Notice of proposed rulemaking (NPRM).

SUMMARY: The FAA proposes to adopt a new airworthiness directive (AD) for Bell Textron Canada Limited (Bell) Model 429 helicopters. This proposed AD would require inspecting certain serial-numbered Emergency Flotation System (EFS) inflation hoses and depending on the results of those inspections, marking certain parts or removing certain parts from service. This proposed AD was prompted by a report that a float compartment on an EFS did not inflate. The actions of this proposed AD are intended to address an unsafe condition on these products.

DATES: The FAA must receive comments on this proposed AD by May 7, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-1170; or in person at Docket Operations between 9 a.m. and 5 p.m., Monday through Friday, except Federal holidays. The AD docket contains this proposed AD, the Transport Canada AD, any comments received, and other information. The street address for Docket Operations is listed above. Comments will be available in the AD docket shortly after receipt.

For service information identified in this proposed rule, contact Bell Textron Canada Limited, 12,800 Rue de l'Avenir, Mirabel, Quebec J7J1R4; telephone 450-437-2862 or 800-363-8023; fax 450-433-0272; or at https://www.bellcustomer.com. You may view this referenced service information at the FAA, Office of the Regional Counsel, Southwest Region, 10101 Hillwood Pkwy., Room 6N-321, Fort Worth, TX 76177.

FOR FURTHER INFORMATION CONTACT: Daniel E. Moore, Aviation Safety Engineer, Denver ACO Branch, Compliance & Airworthiness Division, FAA, 26805 East 68th Ave., Denver, CO 80249; telephone 303-342-1086; email daniel.e.moore@faa.gov.

SUPPLEMENTARY INFORMATION:

Comments Invited

The FAA invites you to send any written relevant data, views, or arguments about this proposal. Send your comments to an address listed under ADDRESSES. Include “Docket No. FAA-2020-1170; Project Identifier MCAI-2020-00720-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Daniel E. Moore, Aviation Safety Engineer, Denver ACO Branch, Compliance & Airworthiness Division, FAA, 26805 East 68th Ave., Denver, CO 80249; telephone 303-342-1086; ; email daniel.e.moore@faa.gov. Any commentary that the FAA receives which is not specifically designated as CBI will be placed in the public docket for this rulemaking.

Discussion

Transport Canada, which is the aviation authority for Canada, has issued Canadian AD No. CF-2020-21R1, issued August 19, 2020 to correct an unsafe condition for Bell Model 429 helicopters, all serial numbers. The Transport Canada AD advises that during maintenance on an EFS, the third compartment of the left forward float did not inflate. Transport Canada advises that an investigation determined the supply hose for the gas flow from the pressurized cylinder to the float compartment was blocked due to a manufacturing defect. Bell advised that similar supply hoses are installed on various EFS part numbers, which could be installed on different helicopter type designs. Transport Canada advises that this condition, if not detected and corrected, could result in partial inflation of the EFS during an emergency landing on water, preventing a timely egress from the helicopter, and injury to helicopter occupants.

FAA's Determination

These helicopters have been approved by the aviation authority of Canada and are approved for operation in the United States. Pursuant to the FAA's bilateral agreement with Canada, Transport Canada, its technical representative, has notified the FAA of the unsafe condition described in the Transport Canada AD. The FAA is proposing this AD after evaluating all known relevant information and determining that an unsafe condition is likely to exist or develop on other helicopters of the same type design.

Related Service Information Under 1 CFR Part 51

The FAA reviewed Safran Aerosystems Services Service Bulletin No. 025-69-21, Revision 00, dated, March 23, 2020 (SB 025-69-21). SB 025-69-21 is attached as an appendix to Bell Alert Service Bulletin No. 429-20-52, dated March 30, 2020 (ASB 429-20-52). SB 025-69-21 is proposed for incorporation by reference in this proposed AD. ASB 429-20-52 is not proposed for incorporation by reference in this proposed AD. SB 025-69-21 specifies, for certain EFSs manufactured before July 2019, and any float supply hose manufactured before January 2014, performing a special inspection to verify that there is no blockage through the float supply hoses of the EFS inflation system.

This service information is reasonably available because the interested parties have access to it through their normal course of business or by the means identified in the ADDRESSES section.

Proposed AD Requirements

This proposed AD would require, within 100 hours time-in-service (TIS), removing each EFS supply hose and inspecting each end (also referred to as fitting or banjo) of the EFS supply hose using a certain plastic cable tie, and depending on the results of those inspections, removing from service certain parts and replacing those parts with airworthy parts. This proposed AD would also require marking a green dot on the base of certain supply hoses and writing “SB 025-69-21” above the external identification marking of the EFS with indelible ink. Finally, the proposed AD would prohibit installing any EFS supply hose manufactured before January 2014 unless it has been inspected in accordance with the proposed AD.

Differences Between This Proposed AD and the Transport Canada AD

The Transport Canada AD requires compliance within 600 hours air time or within the next 24-month inspection of the EFS, whichever occurs first, whereas this proposed AD would require compliance within 100 hours TIS. The Transport Canada AD limits the applicability to certain EFS supply hoses listed in SB 025-69-21, whereas this proposed AD would apply to certain EFS supply hoses manufactured before January 2014 but excludes EFS supply hoses marked with “SB 025-69-21.”

Costs of Compliance

The FAA estimates that this proposed AD would affect 110 helicopters of U.S. Registry. The FAA estimates that operators may incur the following costs in order to comply with this proposed AD. Labor costs are estimated at $85 per work-hour.

Removing and inspecting each EFS supply hose would take about 0.75 work-hour, for an estimated cost of $64 per hose.

Installing or replacing each EFS supply hose would take about 0.10 work-hour with a minimal parts cost, for an estimated cost of $9 per hose.

Marking each EFS supply hose with a green dot and the applicable service bulletin number would take a minimal amount of time at a nominal cost.

According to Safran's service information, some of the costs of this proposed AD may be covered under warranty, thereby reducing the cost impact on affected individuals. The FAA does not control warranty coverage by Safran. Accordingly, all costs are included in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bell Textron Canada Limited Helicopters: Docket No. FAA-2020-1170; Project Identifier MCAI-2020-00720-R.

(a) Applicability

This airworthiness directive (AD) applies to Bell Textron Canada Limited (Bell) Model 429 helicopters, certificated in any category, with a Bell Emergency Flotation System (EFS) kit P/N 429-706-069-101/-103/-105/-121/-123/-125/-139/-141/-143/or -157 manufactured before July 2019, with a float supply hose manufactured before January 2014, installed, except for float supply hoses marked with “SB 025-69-21” above the external identification marking.

(b) Unsafe Condition

This AD defines the unsafe condition as a blocked float supply hose installed on an EFS. This condition could result in partial inflation of an EFS float during an emergency landing on water and subsequently preventing a timely egress from the helicopter.

(c) Comments Due Date

The FAA must receive comments by May 7, 2021.

(d) Compliance

You are responsible for performing each action required by this AD within the specified compliance time unless it has already been accomplished prior to that time.

(e) Required Actions

(1) Within 100 hours time-in-service (TIS): (i) Remove each EFS supply hose from the float and inspect each end of the EFS supply hose by inserting a plastic cable tie, 300 mm minimum × 5 mm maximum (11.811 in. minimum × .196 in. maximum), into the holes of the related fitting as shown in Figure 1 of Safran Aerosystems Services Service Bulletin No. 025-69-21, Revision 00, dated March 23, 2020 (SB 025-69-21).

Note 1 to paragraph (e)(1)(i) of this AD: Each end of the supply hose may also be referred to as fitting or banjo.

(ii) If the cable tie does not pass through the hose, before further flight, remove the EFS supply hose from service and replace it with an airworthy part.

(iii) If the cable tie passes through the supply hose, mark a green dot with indelible ink on the base of the supply hose and write “SB 025-69-21” above the external identification marking of the EFS with indelible ink.

(2) As of the effective date of this AD, do not install an EFS supply hose manufactured before January 2014 on any helicopter unless the requirements in paragraph (e)(1) of this AD have been completed.

(f) Alternative Methods of Compliance (AMOCs)

(1) The Manager, Rotorcraft Standards Branch, FAA, may approve AMOCs for this AD. Send your proposal to: Daniel E. Moore, Aviation Safety Engineer, Denver, ACO Branch, Compliance & Airworthiness Division, FAA, 26805 East 68th Ave., Denver, CO 80249; telephone 303-342-1086; email 9-Denver-Aircraft-Cert@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(g) Additional Information

The subject of this AD is addressed in Transport Canada AD No. CF-2020-212R1, dated August 19, 2020. You may view the Transport Canada AD on the internet at https://www.regulations.gov in the AD Docket.

(h) Subject

Joint Aircraft Service Component (JASC) Code: 2560, Emergency Equipment.

Issued on January 5, 2021.
Lance T. Gant,
Director, Compliance & Airworthiness Division, Aircraft Certification Service.

[FR Doc. 2021-04200 Filed 3-22-21; 8:45 am]

BILLING CODE 4910-13-P